DEPARTMENT OF THE INTERIOR

National Park Service

[NPS-WASO-NAGPRA-NPS0037978; PPWOCRADN0-PCU00RP14.R50000]

Notice of Intended Repatriation: Western Washington University, Department of Anthropology, Bellingham, WA

AGENCY: National Park Service, Interior.

ACTION: Notice.

SUMMARY: In accordance with the Native American Graves Protection and Repatriation Act (NAGPRA), the Western Washington University (WWU) intends to repatriate certain cultural items that meet the definition of unassociated funerary objects and that have a cultural affiliation with the Indian Tribes or Native Hawaiian organizations in this notice.

DATES: Repatriation of the cultural items in this notice may occur on or after June 24, 2024.

ADDRESSES: Dr. Judith Pine, Western Washington University, Department of Anthropology, Arntzen Hall 340, 516 High Street, Bellingham, WA 98225, telephone (360) 650-4783, email pinej@wwu.edu.

SUPPLEMENTARY INFORMATION: This notice is published as part of the National Park Service's administrative responsibilities under NAGPRA. The determinations in this notice are the sole responsibility of the WWU, and additional information on the determinations in this notice, including the results of consultation, can be found in the summary or related records. The National Park Service is not responsible for the determinations in this notice.

Abstract of Information Available

A total of nine cultural items have been requested for repatriation. The nine unassociated funerary objects are level bags (lots) containing non-human mammal, bird and fish bones from five different units. These are newly identified as unassociated funerary objects because of consultation with the Swinomish Indian Tribal Community in January of 2024. No hazardous chemicals are known to have been used to treat the unassociated funerary objects while in the custody of WWU.

The site 45-SK-35 is located near the Skagit River, on the southwestern end of Pleasant Ridge, on an alluvial flat at the base of a hill. This site is part of the Swikwikwab complex. Western Washington State College conducted a field school excavation, led by Herbert C. Taylor, on July 2, 1960. Additional research identified the 45-SK-35 as a cemetery site and included in the National Register of Historic Places. In 1960, remains representing at minimum three individuals were removed from the Dunlap/Sedro Wooley [Woolley] Site (45-SK-35) during a University of Washington Field School. In 2023, human skeletal remains were found during excavations for a culvert (HR23-00055).

The unassociated funerary objects have been determined to be Native American based on ethnographic, geographic, and archeological evidence. Comparison of the location of site 45-SK-35 with Suttles and Lane's map indicates that it is in an area associated with Nookachamps, Kikiallus, and Swinomish (Suttles and Lane 1990, Handbook of North American Indians, Volume 7, Northwest Coast: Figure 1). Many descendants of these cultural entities are today associated with the Swinomish Indian Tribal Community, as confirmed through consultation.

Determinations

The WWU has determined that:

• The nine unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the human remains and associated funerary objects described in this notice and the Swinomish Indian Tribal Community.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after June 24, 2024. If competing requests for repatriation are received, the WWU must determine the most appropriate requestor prior to repatriation. Requests for joint repatriation of the cultural items are considered a single request and not competing requests. The WWU is responsible for sending a copy of this notice to the Indian Tribes and Native Hawaiian organizations identified in this notice and to any other consulting parties.

Authority: Native American Graves Protection and Repatriation Act, 25 U.S.C. 3004 and the implementing regulations, 43 CFR 10.9.

Dated: May 15, 2024.
Melanie O'Brien,
Manager, National NAGPRA Program.

[FR Doc. 2024-11449 Filed 5-23-24; 8:45 am]

BILLING CODE 4312-52-P